DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending January 12, 2013. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0006.

Date Filed: January 7, 2013.

Due Date for Answers, Conforming Applications, or Motion to Modify Scope:January 28, 2013.

Description:Application of Sirio S.p.A. requesting a foreign air carrier permit and exemption authority to engage in the following operations using small aircraft: (a) Foreign charter air transportation of persons, property, and mail from any point or points behind any Member State of the European Community via any point or points in any Member State and via intermediate points to any point or points in the United States and beyond; (b) foreign charter air transportation of persons, property, and mail between any point or points in the United States and any point or points in any Member State of the European Common Aviation Area; (c) foreign charter cargo air transportation between any point and points in the United States and any other point or points; and (d) charter transportation consistent with any future, additional rights that may be granted to foreign air carriers of the Member States of the European Community.

Docket Number: DOT-OST-2009-0010.

Date Filed: January 8, 2013.

Due Date for Answers, Conforming Applications, or Motion to Modify Scope:January 29, 2013.

Description:Application of 1263343 Alberta Inc. d/b/a enerjet (“enerjet”) requesting that the Department amend its foreign air carrier permit to enable it to engage in scheduled air transportation of persons, property, and mail between Canada and the United States as more specifically: enerjet seeks authority to (i) conduct scheduled foreign air transportation of persons, property, and mail from points behind Canada, via Canada and intermediate points, to a point or points in the United States and beyond, co-extensive with that provided for in Annex 1, Section 1.B of the Open Skies Agreement (the “Air Transport Agreement”) between Canada and the United States signed on March 12, 2007 and (ii) scheduled and charter foreign air transportation of cargo between any point or points in the United States and any other point or points; in addition to maintaining its existing authority.

Docket Number: DOT-OST-2008-0105 and DOT-OST-2011-0076.

Date Filed: January 10, 2013.

Due Date for Answers, Conforming Applications, or Motion to Modify Scope:January 31, 2013.

Description:Application of Federal Express Corporation (“FedEx Express”) requesting renewal of its certificate of public convenience and necessity for Route 568, authorizing FedEx Express to engage in scheduled foreign all-cargo air transportation between a point or points in the United States, and certain named points in Mexico.

Barbara J. Hairston,
Acting Program Manager, Docket Operations, Federal Register Liaison.

[FR Doc. 2013-02452 Filed 2-4-13; 8:45 am]

BILLING CODE 4910-9X-P